INTERNATIONAL TRADE COMMISSION

[Investigations Nos. 701-TA-439-440 and 731-TA-1077-1080 (Preliminary)]

Polyethylene Terephthalate (PET) Resin From India, Indonesia, Taiwan, and Thailand

Determinations

On the basis of the record ¹ developed in the subject investigations, the United States International Trade Commission (Commission) determines, pursuant to sections 703(a) and 733(a) of the Tariff Act of 1930 (19 U.S.C. 1671b(a) and 19 U.S.C. 1673b(a)) (the Act), that there is a reasonable indication that an industry in the United States is materially injured by reason of imports from India and Thailand of polyethylene terephthalate (PET) resin provided for in subheading 3907.60.00 of the Harmonized Tariff Schedule of the United States, that are alleged to be subsidized by Governments of India and Thailand and by reason of imports from India, Indonesia, Taiwan, and Thailand of PET resin that are alleged to be sold in the United States at less than fair value (LTFV).

¹ The record is defined in § 207.2(f) of the Commission's Rules of Practice and Procedure (19 CFR 207.2(f)).

Commencement of Final Phase Investigations

Pursuant to § 207.18 of the Commission's rules, the Commission also gives notice of the commencement of the final phase of its investigations. The Commission will issue a final phase notice of scheduling, which will be published in the Federal Register as provided in § 207.21 of the Commission's rules, upon notice from the Department of Commerce (Commerce) of affirmative preliminary determinations in the investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations have the right to appear as parties in Commission countervailing duty and antidumping investigations. The Secretary will prepare a public service list containing the names and addresses of all persons, or their representatives, who are parties to the investigations.

Background

On March 24, 2004, a petition was filed with the Commission and Commerce by the U.S. PET Resin Producers' Coalition, Washington, DC, alleging that an industry in the United States is materially injured or threatened with material injury by reason of subsidized and LTFV imports of PET resin from India, Indonesia, Taiwan, and Thailand. Accordingly, effective March 24, 2004, the Commission instituted countervailing duty and antidumping investigations Nos. 701-TA-439-440 and 731-TA-1077-1080 (Preliminary).

Notice of the institution of the Commission's investigations and of a public conference to be held in connection therewith was given by posting copies of the notice in the Office of the Secretary, U.S. International Trade Commission, Washington, DC, and by publishing the notice in the Federal Register of March 31, 2004 (69 FR 16955). The conference was held in Washington, DC, on April 14, 2004, and all persons who requested the opportunity were permitted to appear in person or by counsel.

The Commission transmitted its determinations in these investigations to the Secretary of Commerce on May 10, 2004. The views of the Commission are contained in USITC Publication 3694 (May 2004), entitled Polyethylene Terephthalate (PET) Resin from India, Indonesia, Taiwan, and Thailand: Investigations Nos. 701-TA-439-440 and 731-TA-1077-1080 (Preliminary).

By order of the Commission.
Issued: May 13, 2004.
Marilyn R. Abbott,
Secretary to the Commission.

[FR Doc. 04-11267 Filed 5-18-04; 8:45 am]

BILLING CODE 7020-02-P